DEPARTMENT OF COMMERCE

National Oceanic and Atmospheric Administration

50 CFR Part 600

[I.D. 031803A]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast Multispecies Fishery Management Plan (FMP). However, further review and consultation may be necessary before a final determination is made to issue the EFP. Therefore, NMFS announces that the Regional Administrator proposes to issue an EFP that would allow one vessel to conduct fishing operations that are otherwise restricted by the regulations governing the fisheries of the Northeastern United States. The EFP would allow for exemptions from the days-at-sea (DAS) and Rolling Closure Area IV regulations. The experiment proposes to design and test a baited groundfish pot in a portion of the Gulf of Maine. Regulations under the Magnuson-Stevens Fishery Conservation and Management Act require publication of this notification to provide interested parties the opportunity to comment on applications for proposed EFPs.

DATES: Comments must be received on or before April 10, 2003.

ADDRESSES: Written comments should be sent to Patricia A. Kurkul, Regional Administrator, NMFS, Northeast Regional Office, 1 Blackburn Drive, Gloucester, MA 01930. Mark the outside of the envelope “Comments on UNH Baited Groundfish Pot EFP Proposal.” Comments may also be sent via facsimile (fax) to (978) 281-9135.

FOR FURTHER INFORMATION CONTACT: Susan W. Chinn, Fishery Management Specialist, 978-281-9218.

SUPPLEMENTARY INFORMATION: An application for an EFP was submitted on October 28, 2002, by University of New Hampshire (UNH) Cooperative Extension for an experiment funded by the Northeast Consortium to design and test a baited groundfish pot, with a final submission on February 3, 2003. The EFP would facilitate the development of a viable alternative to traditional fishing gear for cod and other groundfish based on examples that are already being used in Alaska, New Zealand, and Australia. This experiment is important because the use of baited pots to harvest groundfish could reduce seabed impact compared to trawling; reduce bycatch due to high selectivity of species and size enabled by the ability to control entrance size, mesh size, escape vents, and type of bait; and increase survivability of discards, because fish would be brought aboard alive and relatively unharmed.

The experiment would commence as soon as possible and extend through October 30, 2003. The field sampling portion of the baited groundfish pot study would require up to 20 days at sea on board one commercial fishing vessel using up to 10 pots per day. The pots would be constructed using wire mesh materials with a poly netting roof. The prototype would be 5 ft x 5 ft x 2.5 ft (1.5 m x 1.5 m x 0.8 m) (length x width x height) with an expandable/collapsible roof of 5-ft (1.5-m) high netting to increase pot volume while keeping the physical size of the pot relatively small while on board. A total of 10 pots would be constructed and tested at sea during the experiment. Each pot would be deployed similarly to the method for lobster pot deployment. Weak links would be used and escape panels installed in accordance with lobster gear requirements.

During the sea trial phase, the first eight data collection trips would have a UNH Cooperative Extension scientist/researcher on board, and the catch would be measured according to NMFS sea sampling methodology and recorded on NMFS logbooks. All experimental activities would be conducted in the area bounded by the lines extending from 43°30′ N. lat., 69°00′ W. long., northward along 69°00′ W. long., and westward along 43°30′ N. lat., to their intersection with the Maine coastline. Estimated total daily landings, including discards for the 20 days, are 500 lb (226.8 kg) of mixed groundfish. Each day's catch would be sampled, measured, and returned to the sea as quickly as possible. It is expected that most fish would be released alive. A small portion of the catch might be retained for tagging and further research at the laboratory.

The EFP would be issued to one federally-permitted commercial multispecies vessel to exempt it from certain requirements of the FMP. Specifically, the vessel would be exempt from the DAS requirements at 50 CFR 648.82(a) and from Rolling Closure Area IV, specified at § 648.81(g)(1)(iv).

Based on the results of this EFP, this action may lead to future rulemaking.

Authority: 16 U.S.C. 1801 et seq.

Dated: March 20, 2003.
Richard W. Surdi,
Acting Director, Office of Sustainable Fisheries, National Marine Fisheries Service.

[FR Doc. 03-7255 Filed 3-25-03; 8:45 am]

BILLING CODE 3510-22-S